DEPARTMENT OF COMMERCE

International Trade Administration

[A-588-846]

Hot-Rolled Flat-Rolled Carbon-Quality Steel Products From Japan: Extension of Time Limit for Preliminary Results of Antidumping Administrative Review

AGENCY: Import Administration, International Trade Administration, Department of Commerce

ACTION: Notice of extension of time limit for preliminary results of administrative review.

EFFECTIVE DATE: July 10, 2001.

FOR FURTHER INFORMATION CONTACT: Michael Strollo or Sean Carey, AD/CVD Enforcement, Import Administration, International Trade Administration, U.S. Department of Commerce, 14th Street and Constitution Avenue, NW., Washington DC 20230; telephone: (202) 482-5255 or (202) 482-3964, respectively.

The Applicable Statute

Unless otherwise indicated, all citations to the statute are references to the provisions effective January 1, 1995, the effective date of the amendments made to the Tariff Act of 1930 (the Act) by the Uruguay Round Agreements Act. In addition, unless otherwise indicated, all citations to the Departments's regulations are to the current regulations, codified at 19 CFR part 351 (2001).

Background

On June 30, 2000, the Department of Commerce (the Department) received a request from Kawasaki Steel Corporation (“Kawasaki”) for an administrative review of the antidumping duty order on hot-rolled flat-rolled carbon-quality steel products from Japan. On July 31, 2000, the Department published a notice of initiation of this administrative review, covering the period of February 19, 1999 through May 31, 2000 (65 FR 46687). On January 10, 2001, the Department published a partial extension of the time limit for the preliminary results of this first administrative review. See Hot-Rolled Flat-Rolled Carbon-Quality Steel Products From Japan: Extension of Time Limit for Preliminary Results of Antidumping Administrative Review, 66 FR 1952 (January 10, 2001).

Extension of Time Limit for Preliminary Results

This is the first administrative review of this order. There are several complex issues and, as such, it is not practicable to complete this review within the initial time limits mandated by section 751(a)(3)(A) of the Act. Therefore, we are fully extending the due date for the preliminary results until June 30, 2001. Because June 30, 2001, the date which is 365 days after the last day of the month in which the anniversary of the date of publication of the order, is a Saturday, the Department is extending the time limit for the preliminary results until the first business day thereafter, i.e., July 2, 2001. See 751(a)(3)(A) of the Act. The final results continue to be due 120 days after the publication of the preliminary results.

Dated: June 29, 2001.
Joseph A. Spetrini,
Deputy Assistant Secretary, AD/CVD Enforcement Group III.

[FR Doc. 01-17233 Filed 7-9-01; 8:45 am]

BILLING CODE 3510-DS-P